GENERAL SERVICES ADMINISTRATION

National Travel Forum 2006: Where the Travel Stars Shine (NTF 2006)

AGENCY: Office of Governmentwide Policy, General Services Administration (GSA).

ACTION: Notice.

SUMMARY: The General Services Administration (GSA) is announcing that it will hold its fourth National Travel Forum. The National Travel Forum 2006: Where the Travel Stars Shine (NTF 2006) will take place June 26-29, 2006 at the Westin Bonaventure Hotel in Los Angeles, California. Nearly 1,500 travel, relocation, financial and other professionals within Federal, State, and local governments, as well as the private sector will attend. NTF 2006 is co-sponsored by the Interagency Travel Management Committee (ITMC) and the National Business Travel Association (NBTA). To register, exhibit, or hold an agency-wide meeting, visit the NTF 2006 Web site at http://www.nationaltravelforum.org.

FOR FURTHER INFORMATION CONTACT Michael Hopkins, Project Manager, Office of Travel, Transportation, and Asset Management, at (202) 208-4421, or by e-mail to michael.hopkins@gsa.gov.

Dated: April 10, 2006.
Michael Hopkins,
Office of Travel, Transportation, and Asset Management.

[FR Doc. E6-5544 Filed 4-13-06; 8:45 am]

BILLING CODE 6820-14-S